DEPARTMENT OF ENERGY

Federal Energy Regulatory Commission

[Project No. 4900-084]

Trafalgar Power, Inc. Ampersand Forestport Hydro, LLC; Notice of Application for Transfer of License and Soliciting Comments, Motions To Intervene, and Protests

On January 27, 2015, Trafalgar Power, Inc. (transferor) and Ampersand Forestport Hydro, LLC (transferee) filed an application for transfer of license of the Forestport Hydroelectric Project, FERC No. 4900. The project is located on the Black River in Oneida County, New York.

The applicants seek Commission approval to transfer the license for the Forestport Project from the transferor to the transferee.

Applicant Contact: For Transferor: Mr. Arthur Steckler, President, Trafalgar Power, Inc., 11010 Lake Grove Blvd., Suite 100, Box 353, Morrisville, NC 27560-7392. For Transferee: Mr. Lutz Loegters, Ampersand Forestport Hydro, LLC, c/o Ampersand Hydro, LLC, 717 Atlantic Avenue, Suite 1A, Boston, MA 02111.

FERC Contact: Patricia W. Gillis, (202) 502-8735.

Deadline for filing comments, motions to intervene, and protests: 15 days from the date that the Commission issues this notice. The Commission strongly encourages electronic filing. Please file motions to intervene, comments, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-4900-084.

Dated: April 29, 2015.
Kimberly D. Bose,
Secretary.

[FR Doc. 2015-10565 Filed 5-5-15; 8:45 am]

BILLING CODE 6717-01-P